DEPARTMENT OF COMMERCE

National Oceanic and Atmospheric Administration

[RTID 0648-XA045]

Endangered and Threatened Species; Take of Anadromous Fish

AGENCY: National Marine Fisheries Service (NMFS), National Oceanic and Atmospheric Administration (NOAA), U.S. Department of Commerce.

ACTION: Notice; issuance of one renewed U.S. Endangered Species Act (ESA) Section 10(a)(1)(A) scientific enhancement permit (permit 14159-2R).

SUMMARY: Notice is hereby given that NMFS has issued a renewed ESA Section 10(a)(1)(A) scientific enhancement permit (permit 14159-2R) to NMFS' California Coastal Office in Long Beach, California. Authorized activities under this permit are expected to enhance the survival of the endangered Southern California Distinct Population Segment of steelhead (Oncorhynchus mykiss) through rescue and relocation of at-risk steelhead, ecological research, and invasive species management.

ADDRESSES: The application for permit 14159-2R and the issued permit are available for review, by appointment, at the foregoing address: California Coastal Office, 501 West Ocean Boulevard, Suite 4200, Long Beach, California 90802 (phone: 562-980-4026, fax: 562-980-4027, email at: Matthew.McGoogan@noaa.gov). The permit application is also available for review online at the Authorizations and Permits for Protected Species website: https://apps.nmfs.noaa.gov/.

FOR FURTHER INFORMATION CONTACT: Matt McGoogan (phone: 562-980-4026 or email: matthew.mcgoogan@noaa.gov).

SUPPLEMENTARY INFORMATION:

Species Covered in This Notice

Endangered Southern California Distinct Population Segment of steelhead (Oncorhynchus mykiss).

Authority

Scientific enhancement permits are issued in accordance with section 10(a)(1)(A) of the ESA (16 U.S.C. 1531 et seq.) and regulations governing listed fish and wildlife permits (50 CFR part 222-227). NMFS may issue a scientific enhancement permit only when such a permit is determined (1) to be applied for in good faith, (2) will not operate to the disadvantage of the listed species which are the subject of the permit, and (3) is consistent with the purposes and policies set forth in Section 2 of the ESA. Authority to take listed species is subject to conditions set forth in the permit.

Pursuant to Section 10(c) of the ESA, a notice of receipt for permit 14159-2R's application was published in the Federal Register on February 7, 2019 (84 FR 2492), providing 30 days for public comment prior to permit processing. No comment was received on this permit application.

Permit Issued

Permit 14159-2R

On July 30, 2019, the renewed Section 10(a)(1)(A) scientific enhancement permit 14159-2R was issued to NMFS' California Coastal Office in Long Beach, California. This permit authorizes activities that are expected to enhance the survival of the endangered Southern California (SC) Distinct Population Segment (DPS) of steelhead (Oncorhynchus mykiss) through (1) rescue and relocation of at-risk steelhead, (2) ecological research, and (3) invasive species management. Activities associated with these three primary components could occur anywhere within the range for the SC DPS of steelhead. A summary of these components is provided as follows.

1. Rescue and Relocation

This component involves rescuing and relocating steelhead from stream sections experiencing natural dewatering during the dry season or prolonged periods of below average rainfall. Specific staff listed on the permit from both NMFS and the California Department of Fish and Wildlife (CDFW) are authorized to conduct relocation activities and will follow a predetermined communication and documentation protocol while implementing these relocation efforts. Standard scientific methods and equipment (e.g., backpack-electrofishing, nets, seines, portable air pumps, transport containers, water chillers, etc.) are authorized for the capture and relocation of steelhead. Captured steelhead will be transported for release into habitats within the same watershed (when possible) that are determined likely to maintain adequate water and habitat quality through the remainder of the dry season. Because this is an endangered population with low abundance, relocating steelhead from sections of stream where they will likely perish is expected to benefit the survival of this species.

2. Ecological Research

Basic information regarding the ecology of endangered SC steelhead is extremely limited, yet such information is critical for guiding science-based decisions regarding the conservation of this species. Field-based investigations authorized under permit 14159-2R are expected to produce much-needed empirical data, particularly data concerning the ecology of endangered steelhead. The empirical data would benefit endangered steelhead through informing species-management and protection efforts, including enforcement of certain ESA provisions. Specific NMFS' staff listed on the permit are authorized to implement this research. Ecological research elements authorized under permit 14159-2R involve the following: (1) Salvaging steelhead carcasses to assess age, growth, and toxicology; (2) trapping emergent fry to assess spawning ecology; (3) capturing juvenile steelhead to assess the effectiveness of steelhead relocation; (4) collecting and maintaining steelhead to improve species management and protection; and (5) developing a predictive model for the maximum size of juvenile steelhead in streams. Permit 14159-2R authorizes standard scientific methods and procedures (e.g., Passive Integrated Transponder-tagging, fin-clip/DNA analysis, scale sampling, otolith analysis, anesthesia etc.) to conduct these research elements.

3. Invasive Species Management

NMFS' recovery plan for endangered SC steelhead highlights non-native aquatic plant and animal species as a threat to steelhead in many watersheds across the SC DPS of steelhead. Non-native fish, crustaceans, and amphibians can harm steelhead indirectly through competition for resources (e.g., food, living space) or degradation of habitat quality and directly through predation on steelhead. As such, removing these non-native species is expected to be highly beneficial for steelhead. Specific NMFS and CDFW staff listed on the permit are authorized to implement standard methods for capture and removal of invasive species (e.g., backpack-electrofishing, seining, hand-nets, traps, hook-and-line angling, and spearfishing). Invasive species management methods will target capture and removal of non-native species; however, these activities may also result in the capture of steelhead in the process. Steelhead captured during invasive species management will be (1) measured for length and weight, (2) potentially have a tissue sample (i.e., fin clip, scale) taken, and (3) returned unharmed to the stream. Any non-native species captured will be humanely euthanized and disposed.

Field activities for the various enhancement components authorized under permit 14159-2R can occur year-round between July 30, 2019 and December 31, 2029. The annual sum of take authorized with permit 14159-2R is as follows: (1) Non-lethal capture and release of up to 4,000 juvenile steelhead while electrofishing, (2) non-lethal capture and release of up to 200 juvenile steelhead while seining, (3) non-lethal capture and release of up to 100 adult steelhead using hand net or seine, (4) collection and retention of up to 110 adult and 300 juvenile steelhead carcasses, (5) non-lethal capture and release of up to 5 adult and 600 juvenile steelhead for the purpose of applying Passive Integrated Transponder-tags, (6) non-lethal capture and release up to 2,000 fry during emergent trapping, (7) non-lethal capture of up to 5 juvenile steelhead while hook-and-line angling, and (8) non-lethal observation of up to 2,000 juvenile and 50 adult steelhead during instream snorkel surveys. The annual unintentional lethal steelhead take authorized under permit 14159-2R is up to 241 juvenile, 100 fry, and 2 adult. The annual intentional (directed) lethal take authorized under permit 14159-2R is up to 200 steelhead fry.

The activities authorized under permit 14159-2R are expected to enhance survival and support steelhead recovery across the entire SC DPS of steelhead and are consistent with recommendations and objectives outlined in NMFS' Endangered Southern California Steelhead Recovery Plan. See the application for permit 14159-2R and issued permit for greater details on the various components of this scientific enhancement effort including the specific scientific methods and take allotments authorized for each.

Dated: February 25, 2020.
Angela Somma,
Chief, Endangered Species Division, Office of Protected Resources, National Marine Fisheries Service.

[FR Doc. 2020-04215 Filed 2-28-20; 8:45 am]

BILLING CODE 3510-22-P